GENERAL SERVICES ADMINISTRATION

Public Building Services, Technical Support Division; Notice of Availability of Record of Decision

The United States General Services Administration has signed a Record of Decision for the proposed project: U.S. Courthouse, Inspection of State Street and Eliot Street, Springfield, Hamden County, Massachusetts.

The building will comprise approximately 160,000 gross square feet of space, housing the United States District Court, the United States Bankruptcy Court for Western Massachusetts, and other court related agencies.

The public is invited to view a copy of the Record of Decision at the Springfield Public Library or by contacting: Frank Saviano, U.S. General Services Administration, Public Building Service, Technical Support Division (1PC), Thomas P. O'Neill Federal Building, 10 Causeway Street, Room 975, Boston, MA 02222, Tel: 617-565-5494, Email: frank.saviano@gsa.gov.

Dated: March 20, 2001.
Tom Mailander,
Director, Technical Support Division, Public Building Service, General Services Administration.

[FR Doc. 01-8742 Filed 4-9-01; 8:45 am]

BILLING CODE 6820-23-M